DEPARTMENT OF DEFENSE

Office of the Secretary

[Docket ID: DoD-2009-OS-0153]

Privacy Act of 1974; System of Records

AGENCY: Defense Threat Reduction Agency, DoD.

ACTION: Notice to amend a system of records.

SUMMARY: Defense Threat Reduction Agency is amending a system of records notices in its existing inventory of record systems subject to the Privacy Act of 1974, (5 U.S.C. 552a), as amended.

DATES: This proposed action will be effective without further notice on November 27, 2009 unless comments are received which result in a contrary determination.

ADDRESSES: Send comments to the Freedom of Information and Privacy Office, Defense Threat Reduction Agency, 8725 John J. Kingman Road, Fort Belvoir, VA 22060-6201.

FOR FURTHER INFORMATION CONTACT: Ms. Brenda Carter at (703) 767-1771.

SUPPLEMENTARY INFORMATION: The Defense Threat Reduction Agency notices for systems of records subject to the Privacy Act of 1974 (5 U.S.C. 552a), as amended, have been published in the Federal Register and are available from the address above.

The specific changes to the record systems being amended are set forth below followed by the notice, as amended, published in its entirety. The proposed amendments are not within the purview of subsection (r) of the Privacy Act of 1974, (5 U.S.C. 552a), as amended, which requires the submission of a new or altered system report.

Dated: October 21, 2009.
Patricia L. Toppings,
OSD Federal Register Liaison Officer, Department of Defense.

HDTRA 006

System Name:

Employee Occupational Health Programs (August 9, 2005, 70 FR 46152).

Changes:

* * * * *

Storage:

Delete entry and replace with “Records are stored in paper file folders and electronic storage media.”

Retrievability:

Delete entry and replace with “Records may be retrieved by the individual's name and date of birth.”

Safeguards:

Delete entry and replace with “During the employment of the individual, medical records are maintained in locked file cabinets located in a secured room with access limited to those whose official duties require access. Buildings are protected by security guards and an intrusion alarm system.”

Retention and disposal:

Delete entry and replace with “Records are retained until the individual leaves the DTRA. Records are combined with the official personnel folder which is forwarded to the Federal Personnel Records Center or to the new employing agency, as appropriate.”

System manager(s) and address:

Delete entry and replace with “Chief, Environmental, Safety and Occupational Health Office, Defense Threat Reduction Agency, 8725 John J. Kingman Road, Fort Belvoir, VA 22060-6201.”

Notification procedure:

Delete entry and replace with “Individuals seeking to determine whether information about themselves is contained in this system of records should address written inquiries to the Chief, Environmental, Safety and Occupational Health Division, Defense Threat Reduction Agency, 8725 John J. Kingman Road, Fort Belvoir, VA 22060-6201.

The letter should contain the full name, date of birth and signature of the requester and the approximate period of time, by date, during which the case record was developed.”

Record access procedures:

Delete entry and replace with “Individuals seeking access to information about themselves contained in this system of records should address written inquires to the Chief, Environmental, Safety and Occupational Health Division, Defense Threat Reduction Agency, 8725 John J. Kingman Road, Fort Belvoir, VA 22060-6201.

Written requests for information should contain the full name, date of birth, and signature of the requester. For personal visits the individual should provide a military or civilian identification card.

Contesting record procedures:

Delete entry and replace with “The DTRA rules for accessing records and for contesting contents and appealing initial agency determinations are published in DTRA Instruction 5400.11, DTRA Privacy Program; 32 CFR part 318; or may be obtained from the Chief, Environmental, Safety and Occupational Health Division, Defense Threat Reduction Agency, 8725 John J. Kingman Road, Fort Belvoir, VA 22060-6201.”

* * * * *

HDTRA 006

System name:

Employees Occupational Health Programs

System location:

Environment, Safety and Occupational Health Division, Defense Threat Reduction Agency, 8725 John J. Kingman Road, MS 6201 Ft Belvoir, VA 22060-6201.

Categories of individuals covered by the system:

Any individual, military, civilian, or contractor personnel employed by the Defense Threat Reduction Agency (DTRA) and other Government Agency employees assigned to DTRA.

Categories of records in the system:

File contains a variety of records relating to an employee's participation in the DTRA Occupational Health Program. Information which may be included in this system are the employee's name, Social Security Number (SSN), date of birth, weight, height, blood pressure, medical history, blood type, nature of injury or complaint, type of treatment/medication received, immunizations, examination findings and laboratory findings, exposure to occupational hazards.

Authority for maintenance of the system:

5 U.S.C. 7901, Health Services Program; DTRA Directive 6055.1, DTRA Safety and Occupational Health Program; and E.O. 9397 (SSN), as amended.

Purpose(s):

For use by authorized medical personnel in providing any medical treatment or referral; to provide information to agency management officials pertaining to job-related injuries or potential hazardous conditions and to provide information relative to claims or litigation.

Routine uses of records maintained in the system, including categories of users and the purposes of such uses:

In addition to those disclosures generally permitted under 5 U.S.C. 552a(b) of the Privacy Act, these records contained therein may specifically be disclosed outside the DoD as a routine use pursuant to 5 U.S.C. 552a(b)(3) as follows:

The Office of Personnel Management, and the Federal Labor Relations Authority (including the General Counsel) in the Performance of official duties.

The Department of Labor in connection with claims for compensation.

The Department of Justice in connection with litigation relating to claims.

The Occupational Safety and Health Agency in connection with job-related injuries, illnesses, or hazardous condition.

The “Blanket Routine Uses” published at the beginning of DTRA's compilation of systems of records notices apply to this system.

Policies and practices for storing, retrieving, accessing, retaining, and disposing of records in the system:

Storage:

Records are stored in paper file folders and electronic storage media.

Retrievability:

Records may be retrieved by the individual's name and date of birth.

Safeguards:

During the employment of the individual, medical records are maintained in locked file cabinets located in a secured room with access limited to those whose official duties require access. Buildings are protected by security guards and an intrusion alarm system.

Retention and disposal:

Records are retained until the individual leaves the DTRA. Records are combined with the official personnel folder which is forwarded to the Federal Personnel Records Center or to the new employing agency, as appropriate.

System manager(s) and address:

Chief, Environmental, Safety and Occupational Health Office, Defense Threat Reduction Agency, 8725 John J. Kingman Road, Fort Belvoir, VA 22060-6201.

Notification procedure:

Individuals seeking to determine whether information about themselves is contained in this system of records should address written inquiries to the Chief, Environmental, Safety and Occupational Health Division, Defense Threat Reduction Agency, 8725 John J. Kingman Road, Fort Belvoir, VA 22060-6201.

The letter should contain the full name, date of birth and signature of the requester and the approximate period of time, by date, during which the case record was developed.

Record access procedures:

Individuals seeking access to information about themselves contained in this system of records should address written inquiries to the Chief, Environmental, Safety and Occupational Health Division, Defense Threat Reduction Agency, 8725 John J. Kingman Road, Fort Belvoir, VA 22060-6201.

Written requests for information should contain the full name, date of birth, and signature of the requester. For personal visits the individual should provide a military or civilian identification card.

Contesting record procedures:

The DTRA rules for accessing records and for contesting contents and appealing initial agency determinations are published in DTRA Instruction 5400.11, DTRA Privacy Program; 32 CFR part 318; or may be obtained from the Chief, Environmental, Safety and Occupational Health Division, Defense Threat Reduction Agency, 8725 John J. Kingman Road, Fort Belvoir, VA 22060-6201.

Record source categories:

Information is supplied directly by the individual. It can also be derived from information supplied by the individual, the medical officer, or nurse providing treatment, medication, or supplied by the individual's private physician.

Exemptions claimed for the system:

None.

[FR Doc. E9-25763 Filed 10-26-09; 8:45 am]

BILLING CODE 5001-06-P